DEPARTMENT OF COMMERCE

National Institute of Standards and Technology

Notice of Inventions Available for Licensing

AGENCY: National Institute of Standards and Technology, Commerce.

ACTION: Notice of inventions available for licensing.

SUMMARY: The inventions listed below are owned in whole or in part by the U.S. Government, as represented by the Secretary of Commerce. The U.S. Government's interest in these inventions is available for licensing in accordance with 35 U.S.C. 207 and 37 CFR part 404 to achieve expeditious commercialization of results of Federally funded research and development.

FOR FURTHER INFORMATION CONTACT: Technical and licensing information on these inventions may be obtained by writing to: National Institute of Standards and Technology, Office of Technology Partnerships, Attn: Mary Clague, Building 222, Room A240, Gaithersburg, MD 20899. Information is also available via telephone: 301-975-4188, fax 301-975-3482, or e-mail: mary.clague@nist.gov. Any request for information should include the NIST Docket number and title for the invention as indicated below.

SUPPLEMENTARY INFORMATION: NIST may enter into a Cooperative Research and Development Agreement (“CRADA”) with the licensee to perform further research on the invention for purposes of commercialization. The inventions available for licensing are:

NIST Docket Number: 08-008.

Title: Solution-Processed Flexible Titanium Dioxide Memory Devices.

Abstract: The invention provides a method of processing a nonvolatile memory device includes forming a first electrode, depositing a layer of sol-gel solution on the first electrode, hydrolyzing the layer of sol-gel solution to form a layer of variable electric resistance material, and forming a second electrode on the layer of variable electric resistance material.

NIST Docket Number: 08-012.

Title: Low Cost Multi-Channel Data Acquisition Systems.

Abstract: This invention is jointly owned by the Department of Commerce and the University of Maryland. Embodiments of the invention provide an inexpensive and fast pulse characterization platform capable of real time operation, suitable for acquisition of single-photon data. Embodiments include both a digital multi-channel data acquisition instrument and an analog pulse acquisition instrument suitable for a wide range of applications in physics laboratories. A Field Programmable Gate Array (FPGA) performs multi-channel acquisition in real time, time stamps single events, and determines if the events fit a predetermined signature, which causes the events to be categorized as a coincidence. The indications of coincidences are then communicated to a host computer for further processing as desired.

NIST Docket Number: 08-015.

Title: A Mechanism for the Specification and Enforcement of Arbitrary Attribute-Based Access Control Policies.

Abstract: Protection of enterprise resources in today's access control paradigm requires the deployment of a multitude of access control mechanisms implemented at both the operating system and application levels. These mechanisms come in a wide variety of forms each with their individual methods for authenticating users, configuring security policies, computing access control decisions, and enforcing these policies. A characteristic of dispersed heterogeneous access control mechanisms is a lack of interoperability that consequently results in a host of identity and privilege management issues. However, solving the interoperability problem alone is not sufficient in curing the problems of the existing access control paradigm. While there exists a diverse set of known access control policies, only a small subset of these policies is enforceable through existing mechanisms. In addition, policies independently implemented within applications can easily undermine one another as well as those implemented at the operating system level. To streamline identity and privilege management operations and provide comprehensive and flexible security policy enforcement, a standards-driven framework, called the Policy Machine, for the specification and enforcement of access control that can be adopted by future versions of operating systems and serve as a basis for the development of truly secure applications has been developed.

Dated: March 4, 2009.
Patrick Gallagher,
Deputy Director.

[FR Doc. E9-5069 Filed 3-10-09; 8:45 am]

BILLING CODE 3510-13-P